DEPARTMENT OF TRANSPORTATION

Federal Aviation Administration

RTCA Special Committee 200: Modular Avionics (MA)/EUROCAE WG-60

AGENCY: Federal Aviation Administration (FAA), DOT.

ACTION: Notice of RTCA Special Committee 200 meeting.

SUMMARY: The FAA is issuing this notice to advise the public of a meeting of RTCA Special Committee 200: Modular Avionics.

DATES: The meeting will be held on November 18-21, 2003 from 9 am to 5 pm.

ADDRESS: The meeting will be held at Smiths Aerospace, Cheltenham, Gloucestershire, GL52 8SF, United Kingdom.

FOR FURTHER INFORMATION CONTACT: (1) RTCA Secretariat, 1828 L Street, NW., Suite 805, Washington, DC 20036-5133; telephone (202) 833-9339; fax (202) 833-9434; Website http://www.rtca.org. (2) Smiths-Aerospace contact, Mr. Robin Perry; +44(0)1242 632661; e-mail robin.perry@smiths-aerospace.com.

SUPPLEMENTARY INFORMATION: Pursuant to section 10(a)(2) of the Federal Advisory Committee Act (Pub. L. 92-463, 5 U.S.C., Appendix 2), notice is hereby given for a Special Committee 200 meeting. The agenda will include:

• November 18:

• Subgroup 1-3 Meetings

• November 19:

• Opening Session (Welcome, Introductory and Administrative Remarks, Review Agenda, Review Summary of Previous Meeting)

• Review Action Items

• Briefings on Related Committees

• Establish Editorial Working Group

November 20:

• Subgroups 1-3 Meetings

November 21:

• Report of Subgroup Meetings

• Review of Consolidated Draft Document

• Plans for Editorial Group Activities

• Review of Action Items

• Closing Session (Make Assignments, Date and Place of Next Meeting, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 22, 2003.
Robert Zoldos,
FAA Systems Engineer, RTCA Advisory Committee.

[FR Doc. 03-27897 Filed 11-5-03; 8:45 am]

BILLING CODE 4910-13-M